DEPARTMENT OF HOUSING AND URBAN DEVELOPMENT

[Docket No. FR-5386-N-04]

Privacy Act; Notification of a New Privacy Act System of Records, Title Eight Automated Paperless Office Tracking System (TEAPOTS)

AGENCY: Office of the Chief Information Officer, HUD.

ACTION: Notification of a new Privacy Act system of records.

SUMMARY: The Department's Office of Fair Housing and Equal Opportunity (FHEO) proposes to establish a new Privacy Act of 1974 (5 U.S.C. 552a), system of records notice (SORN). The purpose of the new system of records will be to allow FHEO to process, track, and maintain housing discrimination complaints submitted by complainants with allegations of housing discrimination. FHEO will utilize TEAPOTS as an automated case management system, to process complaints, compliance reviews, and to track the activities throughout the investigation process. The system will be used for all major FHEO responsibilities required to support the execution of program mission functions. It will enable the Department to provide faster, more reliable case tracking, and monitoring for the entire scope of enforcement activities.

DATES: Effective Date: July 19, 2010.

Comment Due Date: July 19, 2010.

ADDRESSES: Interested persons are invited to submit comments regarding this notice to the Rules Docket Clerk, Office of General Counsel, Department of Housing and Urban Development, 451 Seventh Street, SW., Room 10276, Washington, DC 20410-0500. Communications should refer to the above docket number and title. A copy of each communication submitted will be available for public inspection and copying between 8 a.m. and 5 p.m. weekdays at the above address.

FOR FURTHER INFORMATION CONTACT: Donna Robinson-Staton, Departmental Privacy Officer, 451 Seventh Street, SW., Room 2256, Washington, DC 20410, Telephone Number (202) 402-8047. (This is not a toll-free number.) A telecommunication device for hearing-and speech-impaired individuals (TTY) is available at (800) 877-8339 (Federal Information Relay Service).

SUPPLEMENTARY INFORMATION: Pursuant to the Privacy Act of 1974 (5 U.S.C. 552a), as amended notice is given that HUD proposes to establish a new system of records as identified as TEAPOTS.

Title 5 U.S.C. 552a(e)(4) and (11) provide that the public be afforded a 30-day period in which to comment on the new system of records. The new system report was submitted to the Office of Management and Budget (OMB), the Senate Committee on Governmental Affairs, and the House Committee on Government Reform pursuant to paragraph 4c of Appendix 1 to OMB Circular No. A-130, “Federal Agencies Responsibilities for Maintaining Records About Individuals,” July 25, 1994 (59 FR 37914).

Authority: 42 U.S.C. 3601.

Dated: June 11, 2010.
Jerry E. Williams,
Chief Information Officer.

HUD/FHEO-06

SYSTEM NAME:

Title Eight Automated Paperless Office Tracking System (TEAPOTS).

SYSTEM LOCATION:

Resides on HUD Network servers in West Virginia.

CATEGORIES OF INDIVIDUALS COVERED BY THE SYSTEM:

All persons filing a housing discrimination complaint (known as Complainants) and their representatives; all persons and/or organizations identified by Complainants as having committed housing discrimination (know as Respondents) and their representatives; all those investigating and reviewing the housing discrimination complaint.

CATEGORIES OF RECORDS IN THE SYSTEM:

Housing discrimination complaint inquiries and case files, which are documented during the investigation process. Information on the complainants is collected on a case-by-case basis only if relevant to the particular case. These elements include the complainants name, date of birth, home address, telephone number, race, ethnicity, gender type, income and financial data. Medical and health information is provided only when disability discrimination cases are filed.

AUTHORITY FOR MAINTENANCE OF THE SYSTEM:

Title VIII of the Civil Rights Act of 1968, as amended by the Fair Housing Act of 1988 (42 U.S.C. 3601 et seq.), Title VI of the Civil Rights Act of 1964 (42 U.S.C. Sections 2000d-2000d-7), Section 504 of the Rehabilitation Act of 1973 (29 U.S.C. 791 et seq.), Section 109 of Title I of the Housing and Community Development Act of 1974 (42 U.S.C. 5301-5321), Title II of the American Disabilities Act of 1990 (42 U.S.C. 12101 et seq.), Age Discrimination Act of 1975 (42 U.S.C. Sections 6101-107), Title IX of the Education Amendments Act of 1972 (Title 20 U.S.C. Sections 1681-1688), and the Architectural Barriers Act of 1968 (42 U.S.C. 4151 et seq.).

PURPOSE:

TEAPOTS is used to track housing discrimination cases throughout the investigation processes, generate management reports, and assist in producing certain case documents for cases filed under Title VIII of the Civil Rights Act of 1968, as amended by the Fair Housing Act of 1988, and other processes. TEAPOTS also tracks complaints and compliance for the Title VI, Title IX, Age Discrimination of 1975, and Americans with Disabilities authorities. TEAPOTS supports FHEO execution of their enforcement mission functions by providing faster, more reliable case tracking, as well as analysis of the entire scope of enforcement activities.

ROUTINE USES OF RECORDS MAINTAINED IN THE SYSTEM, INCLUDING CATEGORIES OF USERS AND THE PURPOSES OF SUCH USES:

FHEO uses TEAPOTS to monitor the quality of the investigations performed by non-Federal agencies and to determine the amount these agencies should be paid for doing this work. A paper case file that includes the information tracked in TEAPOTS, as well as additional information, is maintained outside of TEAPOTS.

To State and local agencies—Once certified by HUD to investigate and adjudicate Title VIII housing discrimination complaints, State and local agencies also use TEAPOTS to record investigation information.

To authorized requestors requesting release from records under the Freedom of Information Act (FOIA).

To HUD's Office of General Counsel—The case file (paper file) of record is manually delivered.

To Legal Counsel if the discrimination investigation supports issuing a charge of discrimination.

To HUD's Office of the Chief Information Officer—for use in HUD's Resource Estimation and Allocation Process/Total Estimation and Allocation Mechanism (REAP/TEAM). REAP is a resource management initiative used throughout HUD as a methodology for defining and estimating required staffing resources by capturing actual information on workload accomplishments and time usage by HUD employees in the program and support areas.

To HUD's Legal Counsel—The case file (paper file) of record is manually delivered to Legal Counsel if the discrimination investigation supports issuing a charge of discrimination.

POLICIES AND PRACTICES FOR STORING, RETRIEVING, ACCESSING, RETAINING, AND DISPOSING OF RECORDS IN THE SYSTEM:

Storage: The data is stored on the production TEAPOTS server, and the reporting server. The data is backed up every night to tape. No electronic records have ever been archived. A copy of all the records in the system on December 31, 2000, was sent to the National Archives and Record Administration on a CD for permanent storage. The hard copy case files.

SAFEGUARDS:

TEAPOTS is housed in a secured facility in West Virginia. The entire building is occupied by the Department of Housing and Urban Development and contractor personnel and is not open to the general public. A User ID and password are required authentication before access is granted to TEAPOTS. The TEAPOTS regional system administrator creates distinctive user accounts and temporary passwords for all authorized users. All users are required to change their temporary password when they initially login to the TEAPOTS system. TEAPOTS controls the user's ability to perform specific functions according to access level permissions assigned by the system administrator. Permission restrictions prevent unsolicited and illicit access to another region's data. For added access security, TEAPOTS requires all users to update their password every 90 days. TEAPOTS displays a reminder each time the user logs that displays the age of their current password. TEAPOTS require users to create a strong password that complies with National Institute Standards Technology guidance. It must be at least eight (8) characters in length, and utilize a combination of letters, numbers and special characters. Should the user fail to change their password within the 90-day time period, TEAPOTS locks the user out of the system, and they must contact the TEAPOTS regional system administrator to reset their account and assign a temporary password. The user is required to create a new password upon logging into the system with the temporary password. Should the user fail to provide the appropriate username and password after three (3) attempts, TEAPOTS locks the user out of the system, and they must contact the TEAPOTS regional system administrator to reset their account and assign them a temporary password to regain access. The system administrator can unlock the user account upon request. Access scripts with embedded passwords, bypassing authentication requirements, and electronic signatures are not applicable to the TEAPOTS system, as per FHEO requirements.

RETRIEVING:

Records are retrieved by file number, Complainant name, or Respondent name.

RETENTION AND DISPOSAL:

No records have ever been archived. A copy of all the records in the system in 2000 was sent to the National Archives and Record Administration on a CD for permanent storage. The retention and disposal of records is done in accordance to HUD's Records and Disposition Schedule Handbook 2225.6, Appendix 50.

SYSTEM MANAGER(S) AND ADDRESS:

Nina Aten, Director; Office of Information Services and Communications, Fair Housing and Equal Opportunity; U.S. Department of Housing and Urban Development; 451 7th Street, SW., Room 5118; Washington, DC 20410.

NOTIFICATION PROCEDURE:

For information, assistance, or inquiry about the existence of records, contact the Privacy Officer at the Department of Housing and Urban Development, 451 7th Street, SW., Washington, DC 20410-3000. Written requests must include the full name, Social Security Number, date of birth, current address, and telephone number of the individual making the request.

RECORD ACCESS PROCEDURES:

The Department's rules for providing access to records to the individual concerned appear in 24 CFR part 16. If additional information or assistance is required, contact the Privacy Act Officer at the appropriate location.

CONTESTING RECORD PROCEDURES:

The Department's rules for contesting the contents of records and appealing initial denials, by the individual concerned, appear in 24 CFR part 16. If additional information or assistance is needed, it may be obtained by contacting:

(i) In relation to contesting contents of records, the Departmental Privacy Act, Department of Housing and Urban Development, 451 Seventh Street, SW., Room 2256, Washington, DC 20410.

(ii) In relation to appeals of initial denials, the HUD Departmental Privacy Appeals Officers, Office of General Counsel, Department of Housing and Urban Development, 451 Seventh Street, SW., Washington, DC 20410.

RECORD SOURCE CATEGORIES:

Information is obtained from the record subjects.

EXEMPTIONS FROM CERTAIN PROVISIONS OF THE ACT:

None.

[FR Doc. 2010-14744 Filed 6-17-10; 8:45 am]

BILLING CODE 4210-67-P